DEPARTMENT OF DEFENSE

Department of the Navy

Notice of Availability of Record of Decision for the Final Environmental Impact Statement for EA-18G “Growler” Airfield Operations at Naval Air Station Whidbey Island Complex, Island County, WA

AGENCY: Department of the Navy, DoD.

ACTION: Notice.

SUMMARY: The United States Department of the Navy (Navy), after carefully weighing the strategic, operational, and environmental consequences of the proposed action, announces its decision to implement Alternative 2A of the Final Environmental Impact Statement (EIS) for EA-18G “Growler” Airfield Operations at Naval Air Station (NAS) Whidbey Island Complex, WA. Alternative 2A is the Navy's Preferred Alternative and will enable the Navy to augment its existing Electronic Attack community at NAS Whidbey Island Complex with additional aircraft in order to provide Combatant Commanders with expanded electronic attack capabilities to support the national defense.

SUPPLEMENTARY INFORMATION: Alternative 2A adds 36 EA-18G operational aircraft at NAS Whidbey Island, stations additional personnel and their family members at the NAS Whidbey Island complex and in the surrounding community, constructs and renovates facilities at Ault Field, increases airfield operations at both Ault Field and Outlying Landing Field (OLF) Coupeville, and changes the distribution of field carrier landing practice (FCLP) to 20 percent occurring at Ault Field and 80 percent occurring at OLF Coupeville. The implementation of Alternative 2A includes measures intended to reduce noise impacts in the community, including the mitigation measures identified in Appendix H of the Final EIS and the use of Precision Landing Mode to reduce the overall number of FCLPs compared to the number proposed in the Draft EIS. The complete text of the Record of Decision (ROD) is available on the project website at http://www.whidbeyeis.com, along with the Growler Final EIS dated September 2018, and supporting documents. Single copies of the ROD are available upon request by contacting: Naval Facilities Engineering Command Atlantic, Attn: Code EV21/SS (Growler EA-18G EIS project manager), 6506 Hampton Boulevard, Norfolk, VA 23508.

Dated: March 14, 2019.
M.S. Werner,
Commander, Judge Advocate General's Corps, U.S. Navy, Federal Register Liaison Officer.

[FR Doc. 2019-05120 Filed 3-18-19; 8:45 am]

BILLING CODE 3810-FF-P